DEPARTMENT OF COMMERCE

International Trade Administration

[C-570-942]

Certain Kitchen Appliance Shelving and Racks From the People's Republic of China: Final Results of Expedited Sunset Review of the Countervailing Duty Order

AGENCY: Enforcement and Compliance, International Trade Administration, Department of Commerce.

SUMMARY: The Department of Commerce (the Department) finds that revocation of the countervailing duty order (CVD) order on certain kitchen appliance shelving and racks (kitchen racks) from the People's Republic of China (PRC) would be likely to lead to continuation or recurrence of a countervailable subsidy at the levels indicated in the Final Results of Review section of this notice.

DATES: Effective Date: December 9, 2014.

FOR FURTHER INFORMATION CONTACT: Mary Kolberg, Office I, AD/CVD Operations, Enforcement and Compliance, International Trade Administration, U.S. Department of Commerce, 14th Street and Constitution Avenue NW., Washington, DC 20230; telephone: (202) 482-1785.

SUPPLEMENTARY INFORMATION

Background

On August 1, 2014, the Department initiated a sunset review of the CVD Order ¹ on kitchen racks from the PRC pursuant to section 751(c) of the Tariff Act of 1930, as amended (the Act).² On August 18, 2014, the Department received a notice of intent to participate in the review on behalf of Nashville Wire Products, Inc. (Nashville Wire) and SSW Holding Company, Inc. (SSW) (collectively, the domestic industry) within the deadline specified in 19 CFR 351.218(d)(1)(i). Each of these companies claimed interested party status under section 771(9)(C) of the Act, as domestic producers of the domestic like product.

¹ See Certain Kitchen Appliance Shelving and Racks From the People's Republic of China: Countervailing Duty Order, 74 FR 46973 (September 14, 2009) (CVD Order).

² See Initiation of Five-Year (“Sunset”) Review, 79 FR 44743 (August 1, 2014).

The Department received adequate substantive responses collectively from the domestic industry within the 30-day deadline specified in 19 CFR 351.218(d)(3)(i). The Department did not receive a substantive response from the Government of the PRC or any respondent interested party to the proceeding. Because the Department received no response from the respondent interested parties, the Department conducted an expedited review of this CVD order, pursuant to section 751(c)(3)(B) of the Act and 19 CFR 351.218(e)(l)(ii)(B)(2) and (C)(2).

Scope of the Order

The merchandise subject to the order is certain kitchen appliance shelving and racks from the People's Republic of China. The product is currently classified under the Harmonized Tariff Schedule of the United States (HTSUS) numbers 7321.90.5000, 7321.90.6040, 7321.90.6090, 8418.99.8050, 8418.99.8060, 8419.90.9520, 8516.90.8000, and 8516.90.8010. Although the HTSUS numbers are provided for convenience and customs purposes, the written product description remains dispositive.

For a full description of the scope, see “Issues and Decision Memorandum for the Final Results of Expedited Sunset Review of the Countervailing Duty Order on Certain Kitchen Appliance Shelving and Racks from the People's Republic of China,” from Gary Taverman, Associate Deputy Assistant Secretary for Antidumping and Countervailing Duty Operations, to Paul Piquado, Assistant Secretary for Enforcement and Compliance, dated concurrently with this final notice (Issues and Decision Memorandum), and hereby adopted by this notice.

Analysis of Comments Received

All issues raised in this review are addressed in the Issues and Decision Memorandum. The issues discussed in the Issues and Decision Memorandum include the likelihood of continuation or recurrence of a countervailable subsidy and the net countervailable subsidy likely to prevail if the CVD Order were revoked. Parties can find a complete discussion of all issues raised in this expedited sunset review and the corresponding recommendations in this public memorandum which is on file electronically via the Enforcement and Compliance Antidumping and Countervailing Duty Centralized Electronic Service System (ACCESS).³ ACCESS is available to registered users at http://access.trade.gov and in the Central Records Unit, Room 7046 of the main Department of Commerce building. In addition, a complete version of the Issues and Decision Memorandum can be accessed directly on the Internet at http://enforcement.trade.gov/frn/index.html. The signed Issues and Decision Memorandum and the electronic versions of the Issues and Decision Memorandum are identical in content.

³ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Final Results of Review

Pursuant to sections 752(b)(1) and (3) of the Act, we determine that revocation of the CVD Order on kitchen racks from the PRC would be likely to lead to continuation or recurrence of a net countervailable subsidy at the rates listed below:

Producer/exporter | Subsidy rate (percent)
Guangdong Wire King Co., Ltd. (formerly known as Foshan Shunde Wireking Housewares & Hardware) | 19.13
Asber Enterprises Co., Ltd. (China) | 175.03
Changzhou Yixiong Metal Products Co., Ltd | 154.12
Foshan Winleader Metal Products Co., Ltd | 154.12 143
Kingsun Enterprises Group Co, Ltd | 154.12
Yuyao Hanjun Metal Work Co./Yuyao Hanjun Metal Products Co., Ltd | 154.12
Zhongshan Iwatani Co., Ltd. | 154.12
All Others | 17.51

Notification Regarding Administrative Protective Order

This notice serves as the only reminder to parties subject to administrative protective order (APO) of their responsibility concerning the return or destruction of proprietary information disclosed under APO in accordance with 19 CFR 351.305. Timely notification of return/destruction of APO materials or conversion to judicial protective order is hereby requested. Failure to comply with the regulations and the terms of an APO is a sanctionable violation.

We are issuing and publishing these final results and notice in accordance with sections 751(c), 752(b), and 777(i)(1) of the Act.

Dated: December 1, 2014.
Paul Piquado,
Assistant Secretary for Enforcement and Compliance.

[FR Doc. 2014-28831 Filed 12-8-14; 8:45 am]

BILLING CODE 3510-DS-P